DEPARTMENT OF COMMERCE

Foreign-Trade Zones Board

[S-87-2019]

Approval of Subzone Status; ProAmpac Holdings, Inc.; Neenah and Appleton, Wisconsin

On May 13, 2019, the Executive Secretary of the Foreign-Trade Zones (FTZ) Board docketed an application submitted by Brown County, Wisconsin, grantee of FTZ 167, requesting subzone status subject to the existing activation limit of FTZ 167, on behalf of ProAmpac Holdings, Inc., in Neenah and Appleton, Wisconsin.

The application was processed in accordance with the FTZ Act and Regulations, including notice in the Federal Register inviting public comment (84 FR 22435, May 17, 2019). The FTZ staff examiner reviewed the application and determined that it meets the criteria for approval. Pursuant to the authority delegated to the FTZ Board Executive Secretary (15 CFR Sec. 400.36(f)), the application to establish Subzone 167E was approved on July 22, 2019, subject to the FTZ Act and the Board's regulations, including Section 400.13, and further subject to FTZ 167's 2,000-acre activation limit.

Dated: July 22, 2019.
Elizabeth Whiteman,
Acting Executive Secretary.

[FR Doc. 2019-15825 Filed 7-24-19; 8:45 am]

BILLING CODE 3510-DS-P